DEPARTMENT OF AGRICULTURE

Forest Service

Sisters Ranger District; Deschutes National Forest; Oregon; Popper Vegetation Management Project

AGENCY: Forest Service, USDA.

ACTION: Notice of intent to prepare an environmental impact statement.

SUMMARY: The USDA, Forest Service, will prepare an Environmental Impact Statement (EIS) on a proposed action to manage forest fuels and forest stand densities, including areas within a designated wildland urban interface, on the Sisters Ranger District, Deschutes National Forest. In addition, the proposal would decommission and close Forest Roads. The proposed action would be located on National Forest System lands south of the city of Sisters, Oregon; east of the Three Sisters Wilderness; north of the boundary with the BendFort Rock Ranger District; and west of the 33,000 acre Cascade Timberlands property which is being considered as a future Community Forest. The legal location is Townships 16 and 17 south and Range 9 east, Willamette Meridian. The project area is managed under the Northwest Forest Plan: Matrix (12,813 acres); Late Successional Reserve (3,078 acres); and Administratively Withdrawn (1,301 acres). The project area also contains 1,336 acres of Riparian Reserves. The alternatives will include the proposed action, no action, and additional alternatives that respond to issues generated during the scoping process. The agency will give notice of the full environmental analysis and the decision making process so interested and affected people may participate and contribute to the final decision.

DATES: Comments concerning the scope of analysis should be received by 30 days following the date that this notice appears in the Federal Register.

ADDRESSES: Send written comments to Michael Keown, Team Leader, Sisters Ranger District, Pine Street and Highway 20, POB 249, Sisters, Oregon 97759, or submit to comments-pacificnorthwest-deschutes-sisters@fs.fed.us. Please put “Popper Vegetation Management Project” in the subject line of your e-mail. You will have another opportunity for comment when the alternatives have been developed and the Environmental Impact Statement is made available.

FOR FURTHER INFORMATION CONTACT: Michael Keown, Team Leader, Sisters Ranger District, Pine Street and Highway 20, POB 249, Sisters, Oregon 97759, phone (541) 549-7700.

Responsible Official: The responsible offical will be John Allen, Deschutes National Forest Supervisor, 1001 SW Emkay, Bend, Oregon 97701.

SUPPLEMENTARY INFORMATION: Purpose and Need: The need for this site specific proposal is to reduce fuels loadings and forest vegetation density to lessen the risk that ongoing disturbance agents such as wildfire, insects, and disease would lead to a large scale threat to public firefighter, nearby communities and private property, and loss of key ecosystem components such as special habitats, scenic views, and large trees. The purpose of the project is to reduce the threat of large scale wildfire to people, property, and important ecosystem components; improve forest health; contribute wood products and restoration work to the local and regional economy; and reintroduce fire in fire dependent ecosystems in the Popper project area.

Proposed Action: The Forest Service proposed action would include combinations of thinning forest stands, mowing brush, and controlled burning of forest fuels on about 12,390 acres of the 17,194-acre project area, including about 4,277 acres in a designated wildland-urban interface. About 2,259 acres of thinning would occur within existing tree plantations to create more structurally diverse forests; about 1,418 acres of the lodgepole pine plant community would be managed to maintain ongoing public firewood cutting; about 2,480 acres would be thinned from below to maintain fire climax ponderosa pine; about 1,344 acres would be thinned and group openings created to restore and maintain ponderosa pine in the mixed conifer plant community; about 583 acres would be thinned, mowed, and burned to control dwarf mistletoe in ponderosa pine stands; about 3,201 acres of Inventoried Roadless Area (IRA) would be prescribed burned to provide a mosaic of age classes and stand structures within large areas of homogeneous stand structure (no roads will be built and no timber will be sold in Inventoried Roadless Areas); about 235 acres of Riparian Reserves would be thinned and burned to maintain and restore riparian function; and about 521 acres would be prescribed burned only to manage in-growth of trees, reduce forest fuels, and reintroduce fire back into the ecosystem. About 4,648 acres in the Popper project area would not be treated to provide a spatial array of acres across the area to provide dispersal and foraging habitat for various wildlife species and other ecological processes. These no treatment areas include nesting, roosting, and foraging habitat for the northern spotted owl; areas of topography greater than 35% slope; and sensitive habitats among others.

Comment. Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied the agency will return the submission and notify the requester that the comments may be resubmitted with or without name and address within a specified number of days.

A draft EIS will be filed with the Environmental Protection Agency (EPA) and available for public review by Fall 2011. The EPA will publish a Notice of Availability (NOA) of the draft EIS in the Federal Register. The final EIS is scheduled to be available Spring 2012.

The comment period on the draft EIS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D. Wis. 1980)]. Because of these court rulings, it is very important that those interested in this proposed action participate by the close of the 45-day comment period so that comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to comments received during the comment period for the draft EIS. The Forest Service is the lead agency and the responsible official is the Forest Supervisor, Deschutes National Forest. The responsible official will decide where, and whether or not to treat forest stands to achieve the purpose and need for the project. The responsible official will also decide how to mitigate impacts of these actions and will determine when and how monitoring of effects will take place.

The Popper Vegetation Management Project decision and the reasons for the decision will be documented in the Record of Decision. That decision will be subject to Forest Service Appeal Regulations (35 CFR part 215).

Dated: December 27, 2010.
Robert Flores,
Acting District Ranger, Sisters Ranger District.

[FR Doc. 2010-33090 Filed 1-3-11; 8:45 am]

BILLING CODE 3410-11-M